DEPARTMENT OF AGRICULTURE

Animal and Plant Health Inspection Service

[Docket No. APHIS-2012-0013]

Notice of Establishment of a Veterinary Services Stakeholder Registry

AGENCY: Animal and Plant Health Inspection Service, USDA.

ACTION: Notice.

SUMMARY: This notice announces the availability of a new Veterinary Services email subscription service.

FOR FURTHER INFORMATION CONTACT: Mrs. R.J. Cabrera, Writing, Editing, and Regulatory Coordination, VS, APHIS, 4700 River Road Unit 35, Riverdale, MD 20737-1231; (301) 851-3478.

SUPPLEMENTARY INFORMATION: The Animal and Plant Health Inspection Service (APHIS) has established a Veterinary Services (VS) Stakeholder Registry, an email subscription service for individuals and organizations interested in receiving updates regarding APHIS and VS issues. Subscribers will be able to choose from an array of topics such as VS spotlights and news releases, Federal notices, and current VS programs, as well as material sorted by diseases, guidance documents and manual updates, and updates on frameworks for proposed and final rules. In addition to choosing topics of interest, subscribers may select how often they want to receive email messages.

Persons interested in becoming subscribers may sign up now for the new registry at https://public.govdelivery.com/accounts/USDAAPHIS/subscriber/topics?qsp=USDAAPHIS_1. Questions concerning the VS registry may be directed to the person listed under FOR FURTHER INFORMATION CONTACT.

Done in Washington, DC, this 9th day of April 2012.
Kevin Shea,
Acting Administrator, Animal and Plant Health Inspection Service.

[FR Doc. 2012-8913 Filed 4-12-12; 8:45 am]

BILLING CODE 3410-34-P